COMMITTEE FOR PURCHASE FROM PEOPLE WHO ARE BLIND OR SEVERELY DISABLED

Clarification of Scope of Procurement List Additions; 2009 Commodities Procurement List; Quarterly Update of the A-List and Movement of Products Between the A-List, B-List and C-List

AGENCY: Committee for Purchase From People Who Are Blind or Severely Disabled.

ACTION: Publication of the quarterly update of the A-list and movement of products between the A-list, B-list and C-list as of April 1, 2009.

SUMMARY: The Committee for Purchase From People Who Are Blind or Severely Disabled, in accordance with the procedures published on December 1, 2006 (71 FR 69535-69538), has updated the scope of the Program's procurement preference requirements for the products listed below between and among the Committee's A-list, B-list and C-list. A-list products are suitable for the Total Government Requirement as aggregated by the General Services Administration, the B-list are those products suitable for the Broad Government Requirement as aggregated by the General Services Administration, and C-list products are suitable for the requirements of one or more specified agency(ies). The lists below track changes to A-, B-, C-designations that occurred between November 20, 2008 and February 10, 2009.

DATES: The effective date for the quarterly update of the A-list and movement of products between and among the A-list, B-list and C-list is April 1, 2009.

ADDRESSES: Committee for Purchase From People Who Are Blind or Severely Disabled, Jefferson Plaza 2, Suite 10800, 1421 Jefferson Davis Highway, Arlington, Virginia 22202-3259

FOR FURTHER INFORMATION CONTACT: Barry S. Lineback, Telephone: (703) 603-7740, Fax: (703) 603-0655, or e-mail cmtefedreg@jwod.gov.

Products Moved from B-List to A-List:

Air Freshener Deodorant, General Purpose, 6840-00-721-6055.

Box, Storage, File, 8115-01-455-4036.

Inkjet Cartridge in Epson Printers 740/740i/760/860/1160/SCAN 2, 7510-01-544-0826.

Dining Set, 3 pc, 7360-01-564-3560.

Products Moved from C-List to A-List: None.

Products Moved from A-List to B-List: None.

Products Moved from A-List to C-List: None.

Products Moved from B-List to C-List: None.

Products Moved from C-List to B-List: None.

The complete A-list is available at http://www.jwod.gov/jwod/p_and_s/alist2007.htm.

Barry S. Lineback,
Director, Program Operations.

[FR Doc. E9-4240 Filed 2-26-09; 8:45 am]

BILLING CODE 6353-01-P